DEPARTMENT OF THE INTERIOR

National Park Service

National Capital Region; Notice of Intent To Prepare an Environmental Impact Statement

AGENCY: Department of the Interior, National Park Service.

ACTION: Notice of intent to prepare an Environmental Impact Statement to analyze the impacts associated with the exchange of lands owned by Georgetown University and the National Park Service and the impacts associated with the construction of a proposed boathouse for Georgetown University.

SUMMARY: The National Park Service (NPS) announces its intention to prepare an Environmental Impact Statement (EIS) and to conduct scoping to analyze the impacts associated with a land exchange between Georgetown University (University) and the NPS and the impacts associated with the construction of a proposed boathouse for the University on a site within the Chesapeake and Ohio Canal National Historical Park (C&O Canal NHP). In 1995 the NPS conducted an Environmental Assessment (EA) on a proposed land exchange of the site owned by the University within the boundaries of the C&O Canal NHP). In 1995 the NPS conducted an Environmental Assessment (EA) on a proposed land exchange of the site owned by the University within the boundaries of the C&O Canal NHP and a site located within the non-motorized boathouse zone established by the Georgetown Waterfront Park Plan. This EA resulted in a Finding of No Significant Impact (FONSI). The three primary land use goals evaluated were:

(1) Precluding development of a boathouse on the University's largely undisturbed inholding in the park with existing significant natural and cultural resources;

(2) Extinguishing nearly a mile of private access over the Capital Crescent Trail; and

(3) Placing the boathouse on property within the boathouse zone in furtherance of the recreational mandate of C&O Canal NHP Act and Georgetown Waterfront Park Plan.

In 1997, the NPS signed a Memorandum of Agreement (MOA) with the District of Columbia Historic Preservation Office that contained a provision that the proposed University Boathouse would not have a footprint greater than 15,000 square feet. Since the University subsequently proposed an 18,600 square foot boathouse, an amendment to the MOA was required. As part of that process, the NPS conducted public meetings in June and July 2004 to determine whether to revise the MOA. As a result of those meetings and additional written comments, the NPS determined that an EA should be undertaken for the construction of the proposed boathouse. NPS released an EA on the proposed boathouse for public comment from April 25 thorough June 15, 2006, and held a public open house on the EA. Approximately 2,500 comments were received.

Based on comments received on the 2006 EA, and pursuant to section 102(2)(C) of the National Environmental Policy Act (NEPA) of 1969, as implemented by the Council on Environmental Quality (40 CFR Parts 1500-1508), NPS has determined a EIS that will evaluate both the proposed land exchange and the construction impacts of the proposed boathouse is the proper NEPA compliance document. For this reason, NPS announces its intent to prepare an EIS to analyze potential environmental impacts from the proposed action, the range of reasonable alternatives, and mitigation options.

This EIS will consider alternative actions. Those alternatives may include:

(1) Construction of a boathouse with a footprint of 18,682 square feet on the NPS-owned site within the C&O Canal NHP, which is described as Alternative C in the 2006 EA;

(2) Construction of a boathouse with a footprint of 15,000 square feet on the NPS-owned site within the C&O Canal NHP;

(3) Construction of a University Boathouse east of 34th Street on an NPS-owned site within the Georgetown Waterfront Park;

(4) Construction of a University Boathouse upon the site owned by the University; and

(5) A No Action alternative, which would not require this land exchange and would involve the continued use of the Thompson's Boat Center to house the University's rowing program.

Topics for analysis may include the constructability of the boathouse and/or by-right development on the University-owned site; natural, cultural and intangible resource values of the University-owned site; hydrology within the project area; possible impacts on wildlife; possible wetlands; balancing uses on the Capital Crescent Trail; and the cumulative impacts of the project in combination with the Washington Canoe Club, Potomac Boat Club, Jacks Boats, Dempsey's boathouse site, potential George Washington University boathouse and Thompson's Boat Center.

The EIS will be prepared in compliance with NEPA and applicable regulations, including NPS Director's Order 12 and Interior Departmental Manual at 516 DM.

DATES: The NPS will conduct an additional scoping meeting for this EIS on December 11, 2007, 6:30-9 p.m. at St. John's Church, 3240 O Street, NW., Washington, DC., which will be widely announced in newspapers of general circulation as well as through the extensive mailing list developed during the EA process. NPS invites interested agencies, organization, and members of the public to submit comments or suggestions to assist in identifying significant environmental issues and in determining the appropriate scope of the EIS. Written comments on the scope of the EIS are invited.

The public scoping period will continue for at least 45 days from the date of publication of this notice. NPS will hold at least one public meeting during the public scoping period, which will be widely announced in newspapers of general circulation as well as through the extensive mailing list developed during the EA process.

ADDRESSES: Comments and suggestions on the scope of the EIS should be addressed to: Kevin Brandt, Superintendent, C&O Canal NHP, 1850 Dual Highway, Suite 100, Hagerstown, Maryland 21742; or by electronic mail at NCR_Georgetownboathouse@nps.gov.

FOR FURTHER INFORMATION CONTACT: Kevin Brandt, Superintendent, C&O Canal NHP, 1850 Dual Highway, Suite 100, Hagerstown, Maryland 21742.

SUPPLEMENTARY INFORMATION: The 1986 plan for the Georgetown Waterfront Park, which was established in 1984 by the National Capital Planning Commission as part of the Park System of the Nation's Capital, includes a non-motorized boathouse zone, as detailed below, in the proximity of Key Bridge where boathouses had been located historically. The University Boathouse was proposed for location within this boathouse zone which encompasses portions of the C&O Canal NHP as well as the Georgetown Waterfront Park.

To accommodate the growth of the historic sport of rowing on the Potomac River, the Georgetown Waterfront Plan, which was approved in 1986, established a non-motorized boathouse zone along the shoreline in Georgetown from 34th Street to approximately 1,250 feet above Key Bridge, at roughly the historic location of boathouses dating back to the 19th century. A total of five boathouses would be located in the boathouse zone, including the University (future, private), Washington Canoe Club (existing, private), Potomac Boat Club (existing, private), NPS boathouse for singles, doubles, canoes and kayaks (future, public), and George Washington University (future, private). Additionally, Thompson's Boat Center (NPS concessioner) would continue to provide space for scholastic and privately-owned shells.

In 1989 the University acquired a one-acre boathouse site with a one-mile long perpetual access easement over the Capital Crescent Trail. Because its collegiate rowing program is housed at Thompson's Boat Center which is inadequate for its purposes, the University evaluated building a University boathouse on the site and using its easement to access the site. The NPS, concerned about the proposal of the University to build a boathouse outside the boathouse zone upon the sensitive site owned by the University, has been engaged in negotiations with the University since 1989.

Dated: November 8, 2007.
Joseph M. Lawler,
Regional Director, National Capital Region.

[FR Doc. 07-5901 Filed 11-30-07; 8:45 am]

BILLING CODE 4312-JK-M